DEPARTMENT OF HEALTH AND HUMAN SERVICES

Health Resources and Services Administration

Agency Information Collection Activities: Submission to OMB for Review and Approval; Public Comment Request; Information Collection Request Title: Substance Use Disorder Treatment and Recovery Loan Repayment Program, OMB No. 0906-xxxx—New

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than October 8, 2020.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Substance Use Disorder Treatment and Recovery Loan Repayment Program OMB No. 0906-xxxx—New

Abstract: The Further Consolidated Appropriations Act, 2020 included no less than $12,000,000 for HRSA to establish the Loan Repayment Program for Substance Use Disorder Treatment Workforce. This funding will allow HRSA to provide the repayment of education loans for individuals working in either a full-time substance use disorder treatment job that involves direct patient care in a Health Professional Shortage Area (HPSA) designated for Mental Health or a county where the average drug overdose death rate exceeds the national average.

Eligible disciplines include but are not limited to behavioral health paraprofessionals, occupational therapists and counselors. Eligible treatment facilities include but are not limited to inpatient psychiatric facilities, recovery centers, detox facilities, emergency department and local community jails and detention centers. The Department of Health and Human Services agrees to repay the qualifying educational loans up to $250,000.00 in return for six years of service obligation. The forms utilized by the Substance Use Disorder Treatment and Recovery (STAR) Loan Repayment Program (LRP) include the following: the STAR LRP Application, the Authorization for Disclosure of Loan Information form, the Privacy Act Release Authorization form, the Employment Verification form, and the Site Application form, if applicable. The aforementioned forms collect information that is needed for selecting participants and repaying qualifying educational loans.

Eligible facilities for the STAR LRP are facilities that provide in-patient and outpatient, ambulatory, primary and mental/behavioral health care services to populations residing in a mental health HPSA or a county where the average drug overdose death rate exceeds the national average. The facilities that may provide related in-patient services may include, but are not limited to Centers for Medicare & Medicaid Services-approved Critical Access Hospitals, American Indian Health Facilities (Indian Health Service Facilities, Tribally-Operated 638 Health Programs, and Urban Indian Health Programs), inpatient rehabilitation centers and psychiatric facilities. HRSA will recruit facilities for approval. New facilities must submit an application for review and approval. The application requests will contain supporting information on the clinical service site, recruitment contact and services provided. Assistance in completing this application may be obtained through the appropriate HRSA personnel. HRSA will use the information collected on the applications to determine eligibility of the facility for the assignment of health professionals and to verify the need for clinicians.

Note: Despite the similarity in the titles, the STAR LRP is not the existing NHSC Substance Use Disorder LRP (OMB #0915-0127), which is authorized under Title III of the Public Health Service Act. The STAR LRP is a newly authorized Title VII program that has different service requirements, loan repayment protocols, and authorized employment facilities.

A 60-day notice published in the Federal Register on June 4, 2020, vol. 85, No. 108; pp. 34454-34456. There were no public comments.

Need and Proposed Use of the Information: The need and purpose of this information collection is to obtain information that is used to assess a STAR LRP applicant's eligibility and qualifications for the program, and to obtain information for eligible site applicants. Clinicians interested in participating in the STAR LRP must submit an application to the program in order to participate, and health care facilities located in a high overdose rate or Mental Health HPSAs must submit a Site Application to determine the eligibility of sites to participate in the STAR LRP. The STAR LRP application asks for personal, professional and financial information needed to determine the applicant's eligibility to participate in the STAR LRP. In addition, applicants must provide information regarding the loans for which repayment is being requested.

Likely Respondents: Likely respondents include: licensed primary care medical, mental and behavioral health providers, and other paraprofessionals who are employed or seeking employment, and are interested in serving underserved populations; health care facilities interested in participating in the STAR LRP, and becoming an approved service site; STAR LRP sites providing behavioral health care services directly, or through a formal affiliation with a comprehensive community-based primary behavioral health setting, facility providing comprehensive behavioral health services, or various substance abuse treatment facility sub-types.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
STAR LRP Application | 300 | 1 | 300 | .50 | 150
Authorization for Disclosure of Loan Information Form | 300 | 1 | 300 | .50 | 150
Privacy Act Release Authorization Form | 300 | 1 | 300 | .50 | 150
Employment Verification Form | 300 | 1 | 300 | .50 | 150
Site Application | 400 | 1 | 400 | 1.00 | 400
Total | 1,600 |  | 1,600 |  | 1000

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-19776 Filed 9-4-20; 8:45 am]

BILLING CODE 4165-15-P